DEPARTMENT OF TRANSPORTATION

Maritime Administration

[Docket No. MARAD-2025-0071]

Request for Comments on the Renewal of a Previously Approved Information Collection: Quarterly Readiness of Strategic Seaport Facilities Reporting

AGENCY: Maritime Administration, Department of Transportation.

ACTION: Notice.

SUMMARY: The Maritime Administration (MARAD) invites public comments on our intention to request approval from the Office of Management and Budget (OMB) to renew an information collection in accordance with the Paperwork Reduction Act of 1995. The proposed collection OMB 2133-0548 (Quarterly Readiness of Strategic Seaport Facilities Reporting) is used by both Maritime Administration (MARAD) and Department of Defense (DoD) personnel to evaluate Strategic Commercial Seaport readiness to support military deployment and national emergencies. There are no changes since the last renewal. We are required to publish this notice in the Federal Register to obtain comments from the public and affected agencies.

DATES: Comments must be submitted on or before July 14, 2025.

ADDRESSES: You may submit comments identified by Docket No. MARAD-2025-0071 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

All comments received will be posted without change to www.regulations.gov including any personal information provided.

Comments are invited on: (a) whether the proposed collection of information is reasonable for the Department's performance; (b) the accuracy of the estimated burden; (c) ways for the Department to enhance the quality, utility, and clarity of the information collection; and (d) ways that the burden could be lessened without reducing the quality of the collected information. The agency will summarize and/or include your comments in the request for OMB's clearance of this information collection.

FOR FURTHER INFORMATION CONTACT: Matthew Butram, 202-366-1976, Office of Sealift Support, Room W25-218, Mail Stop 1, Maritime Administration, U.S. Department of Transportation, 1200 New Jersey Ave SE, Washington, DC 20590, Email: matthew.butram@dot.gov.

SUPPLEMENTARY INFORMATION:

Title: Quarterly Readiness of Strategic Seaport Facilities Reporting.

OMB Control Number: 2133-0548.

Type of Request: Extension without change of a currently approved collection.

Abstract: This collection of information supports MARAD's emergency planning and preparedness actions related to Commercial Strategic Seaport readiness pursuant to E.O. 12656 and 49 CFR 1.81. In this regard, MARAD issues a Port Readiness Plan (PRP) to designated Strategic Commercial Seaports that identify specific facilities that DoD may need to support the deployment of United States Armed Forces, as well as national emergencies, or national defense needs. This collection of information on a quarterly basis is necessary to validate all PRP-identified facilities to DoD within the PRP-defined timeline.

Respondents: Commercial Strategic Seaports that were designated by the Commander of Military Surface Deployment and Distribution Command (SDDC) and were issued a PRP by MARAD.

Affected Public: Designated Commercial Strategic Seaports that have been issued a PRP.

Estimated Number of Respondents: 17.

Estimated Number of Responses: 68.

Estimated Hours per Response: 1.

Annual Estimated Total Annual Burden Hours: 68.

Frequency of Response: Quarterly.

(Authority: The Paperwork Reduction Act of 1995; 44 U.S.C. chapter 35, as amended; and 49 CFR 1.49.)

By Order of the Maritime Administration.
T. Mitchell Hudson, Jr.,
Secretary, Maritime Administration.

[FR Doc. 2025-08312 Filed 5-12-25; 8:45 am]

BILLING CODE 4910-81-P